DEPARTMENT OF HEALTH AND HUMAN SERVICES

Administration for Children and Families

Proposed Information Collection Activity; Comment Request

Title: Impact Studies of the Health Professions Opportunity Grants.

OMB No.: New Collection.

Description

The Administration for Children and Families (ACF), U.S. Department of Health and Human Services (HHS) is proposing data collection activities as part of the Impact Studies of the Health Professions Opportunity Grants (HPOG-Impact). The goal of HPOG-Impact is to evaluate the effectiveness of approaches HPOG grantees use to provide Temporary Assistance for Needy Families (TANF) recipients and other low-income individuals with opportunities for education, training and advancement within the health care field. HPOG-Impact also is intended to evaluate variation in participant impact that may be attributable to different HPOG program components and models. The impact study design is a classic experiment in which eligible applicants for HPOG program services will be randomly assigned to a treatment group offered participation in HPOG and a control group not offered the opportunity to enroll in HPOG.

To achieve these goals, it is necessary to collect data about both treatment group and control group sample members. It also is necessary to collect data about implementation from program operators (site managers and staff) and from employers involved in programs. This 60-day notice describes the universe of data collection efforts for this study. However, this information request is limited to the baseline surveys and the program implementation data collection activities, which are described under 1, 2, 3, and 4 below. As part of this submission, we are also requesting permission to waive 60-day notices necessary for the follow-up surveys (described under 5 and 6 below).

The universe of information collection proposed for HPOG-Impact includes:

1. Brief baseline survey of eligible applicants to HPOG programs. This survey will augment data already collected about eligible program applicants through the Performance Reporting System (PRS) that currently is being used in the Implementation, Systems and Outcome Evaluation of the Tribal and Low-Income Health Profession Opportunity Grants (OMB Control No. 0970-0394). To reduce burden to the extent possible, HPOG-Impact will use data from the PRS. The 15-minute “supplemental survey” will collect any additional information necessary for HPOG-Impact and will be administered prior to random assignment.

2. In-person interviews with HPOG site managers. The site manager protocol will collect data about program design and content and will provide information about the grantees' rationale for applying for HPOG funding, about administrative challenges and about challenges implementing programs as planned.

3. In-person interviews with HPOG site staff. The protocol for site staff will include questions about staff roles and responsibilities and perceptions of the program.

4. In-person interviews with partnering employer(s). The protocol for employers will include questions about employers' rationale for participating in the effort, their perceptions of program strengths and challenges, and their role in program design and implementation. At each site, evaluators will conduct one meeting with an average of two employers.

5. A follow-up survey of both treatment and control group members. This survey will be administered approximately 12 months after baseline. It will be administered by phone with field back-up. It will collect data about program experiences and outcomes of interest, including certifications and educational achievements, job placement, wages, and benefits. It also will collect some information about participants' tenure and experience in HPOG programming.

6. A second follow-up survey of both treatment and control group members. This survey will be administered approximately 30 months after baseline and will be administered by phone with field back-up. It will collect updated information about outcomes of interest, including certifications and educational achievements, job placement, wages, and benefits.

Respondents

Individuals enrolled in HPOG interventions; control group members; HPOG program managers; HPOG program staff, including program designers, instructors, case managers; employers.

Annual Response Burden Estimates
[These data collection activities will occur over a two-year period]
Instrument | Annual number of respondents | Number of responses per respondent | Average burden hours per response | Annual burden hours
1. Brief baseline survey of eligible applicants to HPOG programs | 4000 | 1 | .25 | 1000
2. In-person interviews with HPOG site managers | 50 | 1 | 3 | 150
3. In-person interviews with HPOG site staff | 200 | 1 | 1 | 200
4. In-person interviews with partnering employer(s) | 25 | 1 | 1 | 25

Estimated Annual Response Burden Hours: 1,375.

In compliance with the requirement of section 3506(c)(2)(A) of the Paperwork Reduction Act of 1995, the Administration for Children and Families (ACF), Department of Health and Human Services, is soliciting public comment on the specific aspects of the information collection described above. Copies of the proposed collection of information can be obtained and comments may be forwarded in writing to the Administration for Children and Families, Office of Planning, Research and Evaluation, 370 L'Enfant Promenade, SW., Washington, DC 20447, Attn: OPRE Reports Clearance Officer. Email address: OPREinfocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: January 30, 2012.
Steven M. Hanmer,
Reports Clearance, Officer.

[FR Doc. 2012-2656 Filed 2-6-12; 8:45 am]

BILLING CODE 4184-09-M